DEPARTMENT OF TRANSPORTATION

Office of the Secretary

Aviation Proceedings, Agreements Filed During the Week Ending November 29, 2002

The following Agreements were filed with the Department of Transportation under the provisions of 49 U.S.C. Sections 412 and 414. Answers may be filed within 21 days after the filing of the application.

Docket Number: OST-2002-13976.

Date Filed: November 29, 2002.

Parties: Members of the International Air Transport Association.

Subject: TC23/TC123 Africa-TC3, Africa-Japan/Korea and Africa-South East Asia, Mail Vote 249—Africa-Japan/Korea, Mail Vote 250—Africa-South East Asia, PTC23 AFR-TC3 0182 dated 21 October 2002, Africa-Japan/Korea Resolutions r1-r23, PTC23 AFR-TC3 0188 dated 15 November 2002 (Affirmative), PTC23 AFR-TC3 0183 dated 21 October 2002, Africa-South East Asia Resolutions r24-r37, PTC23 AFR-TC3 0190 dated 19 November 2002 (Affirmative), PTC23 AFR-TC3 0180 dated 18 October 2002, Africa-South Asian Subcontinent Resolutions r38-r50, PTC23 AFR-TC3 0181 dated 18 October 2002, Africa-South West Pacific r51-r64, PTC23 AFR-TC3 0189 dated 19 November 2002 Technical Correction, Minutes—PTC23 AFR-TC3 0186 dated 5 November 2002, Tables—PTC23 AFR-TC3 Fares 0081 dated 15 November 2002, PTC23 AFR-TC3 Fares 0082 dated 22 November 2002, PTC23 AFR-TC3 Fares 0078 dated 18 October 2002, PTC23 AFR-TC3 Fares 0079 dated 18 October 2002, Intended effective date: 1 April 2003.

Dorothy Y. Beard,
Federal Register Liaison.

[FR Doc. 02-31045 Filed 12-6-02; 8:45 am]

BILLING CODE 4910-62-P